FEDERAL COMMUNICATIONS COMMISSION

47 CFR Part 73

[MM Docket No. 98-203; FCC 01-306]

RIN 4213

The Ancillary or Supplementary Use of Digital Television Capacity by Noncommercial Licensees

AGENCY: Federal Communications Commission.

ACTION: Final rule; announcement of effective date.

SUMMARY: This document announces the effective date of the Commission's amended rules to require that noncommercial educational (“NCE”) television licensees provide a nonprofit, noncommercial educational service. We hope that this clarifies the manner in which NCE licensees may use their excess DTV capacity for remunerative purposes.

DATES: Sections 73.621(i); 73.624(g) introductory text and (g)(2)(ii); 73.642(a), (b) and (e); and 73.644(a) became effective on December 26, 2001. Section 73.624(g)(2)(i) is not yet effective. The Commission will release a document in the Federal Register announcing the effective date of this section.

FOR FURTHER INFORMATION CONTACT: Jane Gross, Policy and Rules Division, Mass Media Bureau (202) 418-2130, or jgross@fcc.gov.

SUPPLEMENTARY INFORMATION: 1. On October 17, 2001, the Commission released Report & Order (“R&O”) clarifying the manner in which noncommercial educational (“NCE”) television licensees may use their excess digital television (“DTV”) capacity for remunerative purposes. In the Matter of Ancillary or Supplementary Use of Digital Television Capacity by Noncommercial Licensees, MM Docket No. 98-203, 66 FR 58973 (November 26, 2001). Among other things, the Commission amended § 73.621 of its rules to apply to the entire digital bitstream, including ancillary or supplementary services, thereby requiring NCE licensees to use their digital capacity primarily for a noncommercial, nonprofit, educational broadcast service. The Commission also amended §§ 73.642 (a), (b), (e) and § 73.644(a) of its rules to clarify that NCE licenses may offer subscription services on their excess digital capacity. When it amended these rules, the Commission ordered that the amended rules would “be effective the later of either thirty days after publication in the Federal Register, or upon receipt by Congress of a report in compliance with the Contract with America Advancement Act of 1996, Public Law 104-121” (summary of R&O paragraph 49).

2. Under current General Accounting Office (“GAO”) procedures, submission to the GAO or publication in the Federal Register is sufficient to satisfy the requirements of the Congressional Review Act (formerly known as the Contract with America Advancement Act). The amendments to §§ 73.621, 73.642 and 73.644 of the Commission's rules were submitted to the GAO and to Congress on November 26, 2001, the same day that they were published in the Federal Register. Thus, pursuant to the Administrative Procedure Act, the amended §§ 73.621, 73.642 and 73.644 of the Commission's rules will be effective on December 26, 2001, thirty days after publication in the Federal Register.

3. Finally, in the same proceeding the Commission amended §§ 73.624(g)(1), (g)(2)(i), and (g)(2)(ii) of its rules to apply to NCE licensees the program for assessing and collecting fees upon feeable ancillary or supplementary services provided on their DTV capacity that it had previously established for commercial licensees, as required by the Telecommunications Act of 1996 (“1996 Act”). Public Law 104-104, 110 Stat. 56 section 201 (1996), codified at 47 U.S.C. 336. In addition, NCE licensees will be required to maintain documentation sufficient to show, at renewal time and in response to any complaint, compliance with the requirement to use their entire bitstream primarily for nonprofit, noncommercial, educational broadcast services on a weekly basis (summary of R&O paragraph 16). These requirements were analyzed with respect to the Paperwork Reduction Act of 1995 (PRA) and found to impose new or modified reporting and recordkeeping requirements or burdens on the public. Thus, implementation of these requirements is subject to approval by the Office of Management and Budget as prescribed by the PRA (summary of R&O paragraphs 46, 50 and 66). The Commission will publish a notice in the Federal Register when this approval is received.

List of Subjects in 47 CFR Part 73

Television.

Federal Communications Commission.
Magalie Roman Salas,
Secretary.

[FR Doc. 02-1811 Filed 1-24-02; 8:45 am]

BILLING CODE 6712-01-P